FEDERAL COMMUNICATIONS COMMISSION

Sunshine Act Meeting; Open Commission Meeting; Thursday, November 14, 2013

Date: November 7, 2013.

The Federal Communications Commission will hold an Open Meeting on the subjects listed below on Thursday, November 14, 2013. The meeting is scheduled to commence at 10:30 a.m. in Room TW-C305, at 445 12th Street SW., Washington, DC.

Item No. | Bureau | Subject
1 | MEDIA | TITLE: Commission Policies and Procedures Under Section 310(b)(4) of the Communications Act, Foreign Investment of Broadcast Licenses (MB Docket No. 13-50). SUMMARY: The Commission will consider a Declaratory Ruling to clarify the agency's policies and procedures in reviewing broadcast applications for transfer of control, or requests for declaratory ruling that seek greater than 25 percent indirect foreign ownership in broadcast licensees, pursuant to section 310(b)(4) of the Communications Act of 1934.
2 | WIRELINE COMPETITION, WIRELESS TELECOMMUNICATIONS, AND OFFICE OF NATIVE AFFAIRS AND POLICY | TITLE: Status of Universal Service Reform Implementation. SUMMARY: The Wireline Competition Bureau, Wireless Telecommunications Bureau, and Office of Native Affairs and Policy will present an update on universal service reform implementation.
3 | OFFICE OF ENGINEERING & TECHNOLOGY AND OFFICE OF STRATEGIC PLANNING AND POLICY ANALYSIS | TITLE: Expanding Measuring Broadband America to Mobile. SUMMARY: The Commission will hear a presentation on a new FCC Speed Test App for Android smartphones. This crowdsourcing app will expand the Measuring Broadband America program from fixed to mobile broadband services in order to empower consumers, industry, and policymakers with open, transparent, and accurate information about mobile broadband services across the United States.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary, Office of the Secretary, Office of Managing Director.

[FR Doc. 2013-27369 Filed 11-12-13; 11:15 am]

BILLING CODE 6712-01-P